DEPARTMENT OF ENERGY

Federal Energy Regulatory Commission

[Docket No. EL04-129-000]

Central Iowa Power Cooperative v. Midwest Independent Transmission System Operator, Inc.; Notice of Complaint

August 27, 2004.

Take notice that on August 26, 2004, Central Iowa Power Cooperative filed a formal complaint against the Midwest Independent Transmission System Operator, Inc. pursuant to 18 CFR 385.206, alleging that the Midwest Independent Transmission System Operator, Inc. failed to properly apply the Midwest ISO's OATT with regard to its use of intervening transmission systems.

Central Iowa Power Cooperative certifies that copies of the complaint were served on the contacts for Midwest Independent Transmission System Operator, Inc. as listed on the Commission's list of Corporate Officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern standard time on September 15, 2004.

Magalie R. Salas,
Secretary.

[FR Doc. E4-2050 Filed 9-2-04; 8:45 am]

BILLING CODE 6717-01-P